DEPARTMENT OF COMMERCE

National Oceanic and Atmospheric Administration

RIN 0648-XU88

Marine Mammals; File No. 808-1735

AGENCY: National Marine Fisheries Service (NMFS), National Oceanic and Atmospheric Administration (NOAA), Commerce.

ACTION: Notice; receipt of application for amendment.

SUMMARY: Notice is hereby given that Andrew Read, Ph.D., Duke University Marine Laboratory, 135 Pivers Island Road, Beaufort, North Carolina 28516, has applied for an amendment to Scientific Research Permit No. 808-1735.

DATES: Written, telefaxed, or e-mail comments must be received on or before April 12, 2010.

ADDRESSES: The application and related documents are available for review by selecting “Records Open for Public Comment” from the Features box on the Applications and Permits for Protected Species (APPS) home page, https://apps.nmfs.noaa.gov, and then selecting File No. 808-1735 from the list of available applications.

These documents are also available upon written request or by appointment in the following offices:

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018;

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Hapeman or Kristy Beard, (301) 713-2289.

SUPPLEMENTARY INFORMATION: The subject amendment to Permit No. 808-1735 is requested under the authority of the Marine Mammal Protection Act of 1972, as amended (16 U.S.C. 1361 et seq.), and the regulations governing the taking and importing of marine mammals (50 CFR part 216).

Permit No. 808-1735, issued on June 27, 2007 (72 FR 36429), authorizes the permit holder to take humpback (Megaptera novaeangliae), blue (Balaenoptera musculus), fin (B. physalus), sei (B. borealis), and Antarctic minke (B. bonaerensis) whales in the Southern Ocean to examine their foraging behavior relative to krill patches. The permit authorizes the close approach of whales during vessel surveys for photo-identification, behavioral observation, tracking, and incidental harassment. A subset of whales may be suction-cup tagged during surveys. The permit is valid through May 31, 2012. The permit holder is requesting the permit be amended to include authorization for the take of Arnoux's beaked whales (Berardius arnouxii) during vessel surveys in the Southern Ocean. Up to 200 whales would be closely approached annually for photo-identification, behavioral observation, and incidental harassment. Dr. Read is also requesting 10 takes for the suction-cup tagging of up 5 whales annually. The purpose of the research is to gain information on the distribution, biology, ecology, movement patterns, and behavior of these extremely rare marine mammals and generate a catalog of known individuals that can then be used for a mark-recapture experiment. The amendment would be valid for the life of the permit.

Concurrent with the publication of this notice in the Federal Register, NMFS is forwarding copies of this application to the Marine Mammal Commission and its Committee of Scientific Advisors.

Dated: March 4, 2010.
P. Michael Payne,
Chief, Permits, Conservation and Education Division, Office of Protected Resources, National Marine Fisheries Service.

[FR Doc. 2010-5251 Filed 3-10-10; 8:45 am]

BILLING CODE 3510-22-S